DEPARTMENT OF COMMERCE

Foreign-Trade Zones Board

[B-61-2017]

Foreign-Trade Zone (FTZ) 272—Lehigh, Pennsylvania; Authorization of Production Activity; Fuling Plastic USA, Inc.; (Disposable Plastic and Paper Service Ware and Kitchenware Products); Allentown, Pennsylvania

On September 27, 2017, Fuling Plastic USA, Inc. submitted a notification of proposed production activity to the FTZ Board for its facility within FTZ Subzone 272C, in Allentown, Pennsylvania.

The notification was processed in accordance with the regulations of the FTZ Board (15 CFR part 400), including notice in the Federal Register inviting public comment (82 FR 46215, October 4, 2017). On January 25, 2018, the applicant was notified of the FTZ Board's decision that no further review of the activity is warranted at this time. The production activity described in the notification was authorized, subject to the FTZ Act and the FTZ Board's regulations, including Section 400.14.

Dated: January 25, 2018.
Elizabeth Whiteman,
Acting Executive Secretary.

[FR Doc. 2018-01735 Filed 1-29-18; 8:45 am]

BILLING CODE 3510-DS-P